DEPARTMENT OF TRANSPORTATION

Federal Aviation Administration

14 CFR Part 71

[Docket No. FAA-2011-0754; Airspace Docket No. 11-AWP-12]

Amendment of Class E Airspace; Hawaiian Islands, HI

AGENCY: Federal Aviation Administration (FAA), DOT.

ACTION: Final rule, technical amendment.

SUMMARY: This action amends Class E airspace for the Hawaiian Islands, HI. The FAA is taking this action in response to a request from the Honolulu Control Facility (HCF) to better clarify the legal description of controlled airspace designated as Class E airspace extending upward from 1,200 feet above the surface for the Hawaiian Islands, HI. This action enhances the safety and management of aircraft operations.

DATES: Effective date, 0901 UTC, December 15, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

The FAA received a request from the Honolulu Control Facility to clarify the legal description of the existing Class E airspace extending upward from 1,200 feet above the surface. The current legal description is vague and confusing; this action is in response to that request.

Class E airspace designations are published in paragraph 6005 of FAA Order 7400.9V dated August 9, 2011, and effective September 15, 2011, which is incorporated by reference in 14 CFR 71.1. The Class E airspace designations listed in this document will be published subsequently in that Order.

The Rule

This action amends Title 14 Code of Federal Regulations (14 CFR) part 71 by amending the legal description of the Class E airspace area extending upward from 1,200 feet above the surface for the Hawaiian Islands, HI. The legal description has been clarified to avoid confusion on the part of pilots flying in the Hawaiian Islands, HI. This is an administrative change and does not affect the boundaries, altitudes, or operating requirements of the airspace, therefore, notice and public procedures under 5 U.S.C. 553(b) are unnecessary.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace for the Hawaiian Islands, HI.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9V, Airspace Designations and Reporting Points, dated August 9, 2011, and effective September 15, 2011, is amended as follows:

Paragraph 6005 Class E airspace areas extending upward from 700 feet or more above the surface of the earth.

* * * * *

AWP HI E5 Hawaiian Islands, HI [Amended]

Hilo VORTAC

(Lat. 19°43′17″ N., long. 155°00′39″ W.)

South Kauai VORTAC

(Lat. 21°54′01″ N., long. 159°31′44″ W.)

That airspace extending upward from 5,500 feet above the surface within an area bounded by a line beginning at lat. 23°56′48″ N., long. 160°45′50″ W.; to lat. 24°18′48″ N., long. 157°16′50″ W.; to lat. 24°02′48″ N., long. 156°18′50″ W.; to lat. 23°31′48″ N., long. 155°28′50″ W.; to lat. 22°59′48″ N., long. 154°38′50″ W.; to lat. 22°21′48″ N., long. 153°52′50″ W.; to lat. 21°42′48″ N., long. 153°08′50″ W.; to lat. 20°48′48″ N., long. 152°59′50″ W.; to lat. 20°15′49″ N., long. 152°13′50″ W.; to lat. 19°13′49″ N., long. 151°53′50″ W.; to lat. 18°18′49″ N., long. 157°48′50″ W.; to lat. 18°25′49″ N., long. 158°53′50″ W.; to lat. 18°52′49″ N., long. 159°52′50″ W.; to lat. 19°31′49″ N., long. 160°35′50″ W.; to lat. 20°05′49″ N., long. 161°51′50″ W.; to lat. 21°00′49″ N., long. 162°13′50″ W.; to lat. 21°55′49″ N., long. 162°28′50″ W.; to lat. 22°49′49″ N., long. 162°13′50″ W.; to lat. 23°31′49″ N., long. 161°34′50″ W.; to the point of beginning. That airspace extending upward from 1,200 feet above the surface within an area described by a line beginning at lat. 23°29′24″ N., long. 158°54′07″ W.; thence east to lat. 22°30′18″ N., long. 155°48′43″ W.; to lat. 20°59′57″ N., long. 153°51′58″ W.; thence clockwise along the 100-mile radius of the Hilo VORTAC to lat. 19°00′00″ N., long. 153°25′14″ W.; thence west to lat. 19°00′00″ N., long. 157°42′33″ W.; to lat. 20°26′57″ N., long. 160°24′57″ W.; thence clockwise along the 100-mile radius of the South Kauai VORTAC to the point of beginning.

Issued in Seattle, Washington, on August 17, 2011.
Christine Mellon,
Acting Manager, Operations Support Group, Western Service Center.

[FR Doc. 2011-22243 Filed 9-1-11; 8:45 am]

BILLING CODE 4910-13-P